Title 3—

The President

Proclamation 7916 of August 5, 2005

40th Anniversary of the Voting Rights Act of 1965

By the President of the United States of America

A Proclamation

In America, we believe in the freedom of every individual. This freedom includes the ability to participate in one of the most cherished rights and fundamental responsibilities of citizenship: the right to vote. The Voting Rights Act of 1965 helped ensure that all citizens would have the opportunity to vote, regardless of race. As President Lyndon Johnson said when he signed the Act, “Millions of Americans are denied the right to vote because of their color. This law will ensure them the right to vote. The wrong is one which no American, in his heart, can justify. The right is one which no American, true to our principles, can deny.” As we celebrate the 40th anniversary of this historic act, we reaffirm this bedrock commitment to equality and justice for all.

America's history is a story of people working for freedom, justice, and equality. We have made great progress toward achieving these ideals. In the middle of the 20th century, the conscience of America was awakened by the struggles and the courage of those who overcame racial slurs, fire hoses, and burning crosses. Brave men and women held sit-ins at lunch counters, rode buses on Freedom Rides, and marched in our Nation's Capital and throughout our country to demand the full promise of the Declaration of Independence. The work of these courageous Americans led to the Voting Rights Act of 1965, and we remember their heroism on this anniversary.

America is a stronger and better Nation because of the Voting Rights Act of 1965. As President Johnson said upon signing the Act, it is “a triumph for freedom as huge as any victory that has ever been won on any battlefield.” The Act was a great step forward in the history of our Nation, and it remains essential as we continue our progress toward a society in which every person of every background can realize the American Dream.

NOW, THEREFORE, I, GEORGE W. BUSH, President of the United States of America, by virtue of the authority vested in me by the Constitution and Laws of the United States, do hereby proclaim August 6, 2005, as a day of celebration in honor of the 40th Anniversary of the Voting Rights Act of 1965. I call upon all Americans to observe this day with appropriate programs, ceremonies, and activities.

IN WITNESS WHEREOF, I have hereunto set my hand this fifth day of August, in the year of our Lord two thousand five, and of the Independence of the United States of America the two hundred and thirtieth.

B

[FR Doc. 05-15911

Filed 8-8-05; 11:21 am]

Billing code 3195-01-P